FEDERAL COMMUNICATIONS COMMISSION

47 CFR Part 54

[WC Docket Nos. 10-90, 23-328, 14-58, 09-197, 16-271; WT Docket No. 10-208; FCC 23-60 and 23-87; FR ID 301355]

Connect America Fund et al.

AGENCY: Federal Communications Commission.

ACTION: Final rule; announcement of effective date.

SUMMARY: In this document, the Federal Communications Commission (Commission) announces that the Office of Management and Budget (OMB) has approved, for a period of three years, an information collection associated with certain rules for the Connect America Fund contained in the Commission's Enhanced A-CAM Order of August 17, 2023, and Connect America Fund Order of April 10, 2024 (Orders). This document is consistent with the Orders, which stated that the Commission would publish a document in the Federal Register announcing the effective date of the revised information collection requirement.

DATES: The amendments to § 54.313(f)(1) introductory text, (f)(1)(i), and (f)(6) published at 88 FR 55918, August 17, 2023 and the amendments to § 54.313 heading and paragraphs (a)(2) and (3), (a)(6) introductory text, (g), and (i) (amendatory instruction 10), and § 54.314 (amendatory instruction 11) published at 89 FR 25147, April 10, 2024 are effective July 9, 2025.

FOR FURTHER INFORMATION CONTACT: Jesse Jachman, Wireline Competition Bureau at (202) 418-7400 or TTY (202) 418-0484. For additional information concerning the Paperwork Reduction Act (PRA) information collection requirements contact Nicole Ongele at (202) 418-2991 or via email at Nicole.Ongele@fcc.gov.

SUPPLEMENTARY INFORMATION: The Commission submitted revised information collection requirements for review and approval by OMB, as required by the PRA of 1995, on May 28, 2024. OMB approved the revised information collection requirements on June 29, 2025. The information collection requirements are contained in the Commission's Enhanced A-CAM Order, WC Docket No. 10-90 et al., FCC 23-60, published at 88 FR 55918, August 17, 2023, and Connect America Fund Order, WC Docket No. 10-90 et al., FCC 23-87, published at 89 FR 25147, April 10, 2024. The OMB Control Number is 3060-0986. The Commission publishes this document as an announcement of the effective date of the rules published on August 17, 2023 and April 10, 2024. If you have any comments on the burden estimates listed in the following, or how the Commission can improve the collections and reduce any burdens caused thereby, please contact Nicole Ongele, Federal Communications Commission, 45 L Street NE, Washington, DC 20554. Please include the OMB Control Number, 3060-0986, in your correspondence. The Commission will also accept your comments via email at PRA@fcc.gov. To request materials in accessible formats for people with disabilities (Braille, large print, electronic files, audio format), send an email to fcc504@fcc.gov or call the Consumer and Governmental Affairs Bureau at (202) 418-0530 (voice).

Synopsis

As required by the PRA of 1995 (44 U.S.C. 3507), the Commission is notifying the public that it received OMB approval on June 29, 2025, for the amendments to §§ 54.313(f)(1)(i), 54.313(f)(6)(i), 54.313(f)(6)(ii) and 54.313(f)(6)(iii), published at 88 FR 55918, August 17, 2023 and the amendments to §§ 54.313(a)(2), 54.313(a)(3), 54.313(g), 54.313(i) (amendatory instruction 10), and § 54.314 (amendatory instruction 11) published at 89 FR 25147, April 10, 2024.

Under 5 CFR part 1320, an agency may not conduct or sponsor a collection of information unless it displays a current, valid OMB Control Number.

No person shall be subject to any penalty for failing to comply with a collection of information subject to the PRA that does not display a current, valid OMB Control Number. The OMB Control Number is 3060-0986.

The foregoing notice is required by the PRA of 1995, Public Law 104-13, October 1, 1995, and 44 U.S.C. 3507.

The total annual reporting burdens and costs for the respondents are as follows:

OMB Control Number: 3060-0986.

OMB Approval Date: June 29, 2025.

OMB Expiration Date: June 30, 2028.

Title: High-Cost Universal Service Support.

Form Number: FCC Form 481 and FCC Form 525.

Respondents: Business or other for-profit, not-for-profit institutions and state, local or tribal government.

Number of Respondents and Responses: 2,229 respondents; 14,172 responses.

Estimated Time per Response: 0.1-15 hours.

Frequency of Response: On occasion, quarterly and annual reporting requirements, recordkeeping requirement and third-party disclosure requirement.

Obligation to Respond: Required to obtain or retain benefits. Statutory authority for this information collection is contained in 47 U.S.C. 151-154, 155, 201-206, 214, 218-220, 251, 252, 254, 256, 303(r), 332, 403, 405, 410, and 1302.

Total Annual Burden: 51,573 hours.

Total Annual Cost: No Cost.

Needs and Uses: The Commission is requesting the Office of Management and Budget (OMB) approval for this revised information collection. On November 18, 2011, the Commission adopted an order reforming its high-cost universal service support mechanisms. Connect America Fund; A National Broadband Plan for Our Future; Establish Just and Reasonable Rates for Local Exchange Carriers; High-Cost Universal Service Support; Developing a Unified Intercarrier Compensation Regime; Federal-State Joint Board on Universal Service; Lifeline and Link-Up; Universal Service Reform—Mobility Fund, WC Docket Nos. 10-90, 07-135, 05-337, 03-109; GN Docket No. 09-51; CC Docket Nos. 01-92, 96-45; WT Docket No. 10-208, Order and Further Notice of Proposed Rulemaking, 26 FCC Rcd 17663 (2011) (USF/ICC Transformation Order). The Commission and Wireline Competition Bureau (WCB or the Bureau) have since adopted a number of orders that implement the USF/ICC Transformation Order; see also Connect America Fund et al., WC Docket No. 10-90 et al., Third Order on Reconsideration, 27 FCC Rcd 5622 (2012); Connect America Fund et al., WC Docket No. 10-90 et al., Order, 27 FCC Rcd 605 (WCB 2012); Connect America Fund et al., WC Docket No. 10-90 et al., Fifth Order on Reconsideration, 27 FCC Rcd 14549 (2012); Connect America Fund et al., WC Docket No. 10-90 et al., Order, 28 FCC Rcd 2051 (WCB 2013); Connect America Fund et al., WC Docket No. 10-90 et al., Order, 28 FCC Rcd 7227 (WCB 2013); Connect America Fund, WC Docket No. 10-90, Report and Order, 28 FCC Rcd 7766 (WCB 2013); Connect America Fund, WC Docket No. 10-90, Report and Order, 28 FCC Rcd 7211 (WCB 2013); Connect America Fund, WC Docket No. 10-90, Report and Order, 28 FCC Rcd 10488 (WCB 2013); Connect America Fund et al., WC Docket No. 10-90 et al., Report and Order and Further Notice of Proposed Rulemaking, 29 FCC Rcd 8769 (2014); Connect America Fund et al., WC Docket No. 10-90 et al., Report and Order, Order and Order on Reconsideration and Further Notice of Proposed Rulemaking, 31 FCC Rcd 3087 (2016); Connect America Fund, et al., WC Docket No. 10-90, et al., Report and Order and Further Notice of Proposed Rulemaking, 31 FCC Rcd 5949 (2016); Connect America Fund et al., WC Docket Nos. 10-90, 16-271; WT Docket No. 10-208, Report and Order and Further Notice of Proposed Rulemaking, 31 FCC Rcd 10139 (2016); Connect America Fund; ETC Annual Reports and Certifications, WC Docket Nos. 10-90, 14-58, Order, 32 FCC Rcd 968 (2017); Connect America Fund et al., WC Docket No. 10-90 et al., Report and Order, Further Notice of Proposed Rulemaking, and Order on Reconsideration, 33 FCC Rcd 11893 (2018); Connect America Fund; ETC Annual Reports and Certifications, WC Docket Nos. 10-90, 14-58, Report and Order, 32 FCC Rcd 5944 (2017).

In 2019, the Commission adopted an order establishing the Uniendo a Puerto Rico Fund (PR Fund) and the Connect USVI Fund, a separate, parallel high-cost program for the U.S. territories suffering extensive infrastructure damage due to Hurricanes Irma and Maria. The Uniendo a Puerto Rico Fund and the Connect USVI Fund, et al., WC Docket No. 18-143, et al., Report and Order and Order on Reconsideration, 34 FCC Rcd 9109 (2019) (Puerto Rico and USVI Stage 2 Order). Also, in the 2019 Supply Chain Order, the Commission adopted a rule prohibiting the use of Universal Service Fund (USF) support, including high-cost universal service support, to purchase or obtain any equipment or services produced or provided by a covered company posing a national security threat to the integrity of communications networks or the communications supply chain. Protecting Against National Security Threats to the Communications Supply Chain Through FCC Programs, WC Docket No. 18-89, Report and Order, Further Notice of Proposed Rulemaking, and Order, 34 FCC Rcd 11423, 11433, paragraph 26 (WCB 2019). See also 47 CFR 54.9.

On January 30, 2020, the Commission adopted an order establishing the framework for the Rural Digital Opportunity Fund (RDOF), building on the successful CAF Phase II auction. Rural Digital Opportunity Fund; Connect America Fund, WC Docket Nos. 19-126 and 10-90, Report and Order, 35 FCC Rcd 686 (2020) (RDOF Order). Later that year, the Commission adopted two additional supply chain rules associated with newly required certifications. Protecting Against National Security Threats to the Communications Supply Chain Through FCC Programs, WC Docket No. 18-89, Second Report and Order, 35 FCC Rcd 14284 (2020) (2020 Supply Chain Order).

Through several orders, the Commission has reconfigured and extended certain high-cost programs, adding obligations applicable to these particular programs, and has changed, modified, and eliminated certain other obligations for high-cost support. These changes are outlined in the following:

In 2018, the Bureau announced that, as of March 1, 2018, and continuing with annual reports due March 1 in subsequent years, recipients of Rural Broadband Experiments (RBE) support would no longer submit location information and associated evidence with their annual FCC Form 481, as previously required, but would instead submit this information using the Universal Service Administrative Company (USAC or the Administrator)'s High-Cost Universal Broadband (HUBB) portal. See Wireline Competition Bureau Provides Guidance to Carriers Receiving Connect America Fund Support Regarding their Broadband Location Reporting Obligations, Public Notice, 31 FCC Rcd 12900, 12908 (WCB 2016). OMB approved the collection of this location information through the HUBB in OMB Control No. 3060-1228, Connect America Fund—High Cost Portal Filing. This collection now reflects that this obligation is being collected under OMB Control No. 3060-1228.

On July 23, 2023, the Commission established the Enhanced Alternative Connect America Cost Model (A-CAM) program, the next iteration of the A-CAM programs. See Connect America Fund: A National Broadband Plan for Our Future High-Cost Universal Service Support et al., WC Docket No. 10-90 et al., Report and Order, Notice of Proposed Rulemaking, and Notice of Inquiry, FCC 23-60 (rel. July 24, 2023) (Enhanced A-CAM Order). Under the Enhanced A-CAM program, carriers electing to receive Enhanced A-CAM support will receive such support for a term ending in 2038, for broadband deployment with speeds of at least 100 Mbps download and 20 Mbps upload, and will be subject to reporting and certification obligations associated with Enhanced A-CAM support. See Enhanced A-CAM Order at 24 through 27, paragraphs 52—59. On October 30, 2023, the Bureau announced that 368 carriers electing Enhanced A-CAM will receive $18.28 billion in total over the 15-year term. See Wireline Competition Bureau Authorizes 368 Companies in 44 States to Receive Enhanced Alternative Connect America Cost Model Support to Expand Rural Broadband, WC Docket No. 10-90, Public Notice, DA 23-1025 (WCB 2023).

On October 20, 2023, the Commission adopted an Order, that among other things, modified and clarified certain requirements associated with FCC Form 481 and similar filings. See Connect America Fund et al., WC Docket No. 10-90 et al., Notice of Proposed Rulemaking and Report and Order, FCC 23-87 (rel. Oct. 20, 2023) (Administrative Order). The Administrative Order updated the rules to properly state that duplicate copies of the annual high-cost reports and certifications, i.e., the FCC Form 481, as described in §§ 54.313 and 54.314 of the Commission's rules, need not be filed with more than one entity; carriers must now only file the FCC Form 481 with USAC. See Administrative Order at 60 through 62, paras. 133-34; 47 CFR 54.313-14. See also Connect America Fund; ETC Annual Reports and Certifications, WC Docket Nos. 10-90, 14-58, Report and Order, 32 FCC Rcd 5944, 5948, paragraph 15 (2017) (ETC Reporting Streamlining Order) (“[C]ontingent upon USAC's completion of the rollout of an online portal for recipients of high cost services, we will no longer require ETCs to file duplicate copies of Form 481 with the FCC and with states, U.S. Territories, and/or Tribal governments beginning in 2018.”). The Administrative Order also made explicit that the required certification of compliance with voice and broadband benchmarks in FCC Form 481 covers the calendar year preceding the date that the FCC Form 481 is due, and is based on benchmarks released by the Commission before that calendar year (two years before the year that the FCC Form 481 is due to be submitted). See Administrative Order at 67, paragraph 150.

The Commission therefore revises this information collection, as well as the Form 481 and its accompanying instructions, to reflect these new and modified requirements.

Federal Communications Commission.
Marlene Dortch,
Secretary, Office of the Secretary.

[FR Doc. 2025-12696 Filed 7-8-25; 8:45 am]

BILLING CODE 6712-01-P